DEPARTMENT OF JUSTICE

Notice of Lodging of Consent Decree Pursuant to the Comprehensive Environmental Response, Compensation, and Liability Act

Pursuant to Section 122(d)(2) of the Comprehensive Environental Response, Compensation, and Liability Act (“CERCLA”), 42 U.S.C. 9622(d)(2), and 28 CFR 50.7, notice is hereby given that a proposed consent decree embodying a settlement in United States v. Chevron Environmental Management Co., et al., No. CV 01-11162 MMM (JWJx), was lodged on December 28, 2001, with the United States District Court for the Central District of California, Western Division.

In a complaint filed concurrently with the lodging of the consent decree, the United States, the State of California, and the California Hazardous Substance Account, seek injunctive relief for performance of response actions and reimbursement of response costs incurred by the United States Environmental Protection Agency (“EPA”) and by the California Department of Toxic Substances Control (“DTSC”), pursuant to sections 106 and 107 of CERCLA, 42 U.S.C. 96060, 9607, in response to releases of hazardous substances at the Operating Industries, Inc. (“OII”) Superfund site in Monterey Park, California. Under the proposed consent decree, the settling defendants have agreed to pay response costs and fund and perform future response actions at the OII Site.

Overall this consent decree has a combined value of approximately $340 million, contributed by the respective parties in cash, or work commitments and reimbursement of past response costs. The settlement addresses the full implementation of the final remedy at the Site. Under this settlement, Work Defendants will perform the Work required by the consent decree, valued at approximately $297 million ($262 million in work plus $25 million in future oversight costs), which will be funded through Work Defendant contributions, payments by Cash Defendants and escrow accounts established under prior settlements or to be established under this settlement. EPA will receive approximately $10 million to be placed in a Special Account, which is available to pay for Excluded Work. The settlement also includes an agreement by the United States Navy to pay approximately $1 million to resolve the Navy's potential liability at the OII site.

The Department of Justice will receive, for a period of thirty (30) days from the date of this publication, comments relating to the proposed consent decree. Comments should be addressed to the Assistant Attorney General for the Environment and Natural Resources Division, U.S. Department of Justice, Box 7611 Ben Franklin Station, Washington, D.C. 20044-7611, and should refer to United States v. Chevron Environmental Management Co. et al., DOJ Ref.#90-11-2-156/4. Commenters may request a public hearing in the affected area, pursuant to Section 7003(d) of RCRA, 42 U.S.C. 6973(d).

The proposed consent decree may be examined at the EPA Region 9 Superfund Records Center, 75 Hawthorne Street, Fourth Floor, San Francisco, California 94015, and at the Office of the United States Attorney for the Central District of California, Federal Building, Room 7516, 300 North Los Angeles Street, Los Angeles, California 90012. A copy of the proposed consent decree may be also be obtained by mail from the Department of Justice Consent Decree Library, Box 7611, Ben Franklin Station, Washington, DC 20044-7611. In requesting a copy, please refer to the referenced case and enclose a check in the amount of $250.50 (25 cents per page reproduction costs), payable to the Consent Decree Library. A copy of the decree, exclusive of the defendants' signature pages and the attachments, may be obtained for $54.50.

Catherine McCabe,
Deputy Section Chief, Environmental Enforcement Section, Environment and Natural Resources Division.

[FR Doc. 02-1114 Filed 1-15-02; 8:45 am]

BILLING CODE 4410-15-M